DEPARTMENT OF TRANSPORTATION

Pipeline and Hazardous Materials Safety Administration

[Docket No. PHMSA-2014-0017]

Pipeline Safety: Construction Notification

AGENCY: Pipeline and Hazardous Materials Safety Administration (PHMSA), DOT.

ACTION: Notice; Issuance of Advisory Bulletin.

SUMMARY: PHMSA is issuing this advisory bulletin to all owners and operators of gas and hazardous liquid pipelines to provide further clarification regarding the notification(s) required prior to certain construction-related events.

PHMSA needs to be aware of certain construction-related events to have sufficient time to schedule reviews of pipeline construction plans and inspections. Moreover, timely construction plan reviews and inspections by PHMSA could help operators avoid costly modifications, repairs and/or additions to achieve compliance with the Federal pipeline safety regulations. Accordingly, PHMSA strongly encourages operators to provide the required construction-related notification(s) not later than 60 days prior to whichever of the following activities occurs first: Material purchasing and manufacturing; right-of-way acquisition; construction equipment move-in activities; onsite or offsite fabrications; or right-of-way clearing, grading and ditching.

PHMSA also strongly encourages operators to provide the required notification(s) for the construction of 10 or more miles of a new pipeline for a pipeline that: (1) Did not previously exist; and (2) for the replacement of 10 or more contiguous miles of line pipe in an existing pipeline.

FOR FURTHER INFORMATION CONTACT: For any questions about this Advisory Bulletin, contact the appropriate PHMSA Regional Office of Pipeline Safety as follows:

• Central Region: 816-329-3800

Illinois, Indiana, Iowa, Kansas, Michigan, Minnesota, Missouri, Nebraska, North Dakota, Ohio, South Dakota, and Wisconsin

• Eastern Region: 609-989-2171

Connecticut, Delaware, District of Columbia, Maine, Maryland, Massachusetts, New Hampshire, New Jersey, New York, Pennsylvania, Rhode Island, Vermont, Virginia, and West Virginia

• Southern Region: 404-832-1147

Alabama, Florida, Georgia, Kentucky, Mississippi, North Carolina, Puerto Rico, South Carolina, and Tennessee

• Southwest Region: 713-272-2859

Arkansas, Louisiana, New Mexico, Oklahoma, and Texas

• Western Region: 720-963-3160

Alaska, Arizona, California, Colorado, Hawaii, Idaho, Montana, Nevada, Oregon, Utah, Washington, and Wyoming

Intrastate pipeline operators should contact the appropriate state pipeline safety authority. A list of state pipeline safety authorities is provided at: www.napsr.org.

SUPPLEMENTARY INFORMATION:

I. Background

The Federal gas pipeline safety regulations in 49 CFR 191.22(c)(1) state:

“(c) Changes. Each operator of a gas pipeline, gas pipeline facility, LNG plant or LNG facility must notify PHMSA electronically through the National Registry of Pipeline and LNG Operators at http://opsweb.phmsa.dot.gov of certain events.

(1) An operator must notify PHMSA of any of the following events not later than 60 days before the event occurs:

(i) Construction or any planned rehabilitation, replacement, modification, upgrade, uprate, or update of a facility, other than a section of line pipe, that costs $10 million or more. If 60 day notice is not feasible because of an emergency, an operator must notify PHMSA as soon as practicable;

(ii) Construction of 10 or more miles of a new pipeline; or

(iii) Construction of a new LNG plant or LNG facility.”

Similarly, the federal hazardous liquid pipeline safety regulations in § 195.64(c)(1) state:

(c) Changes. Each operator must notify PHMSA electronically through the National Registry of Pipeline and LNG Operators at http://opsweb.phmsa.dot.gov, of certain events.

(1) An operator must notify PHMSA of any of the following events not later than 60 days before the event occurs:

(i) Construction or any planned rehabilitation, replacement, modification, upgrade, uprate, or update of a facility, other than a section of line pipe, that costs $10 million or more. If 60 day notice is not feasible because of an emergency, an operator must notify PHMSA as soon as practicable;

(ii) Construction of 10 or more miles of a new hazardous liquid pipeline; or

(iii) Construction of a new pipeline facility.”

When PHMSA issued the rules adding these notification requirements, we noted that the dynamic nature of the transportation pipeline network makes tracking emerging safety issues a significant challenge for PHMSA. This dynamic nature of pipeline and pipeline facility construction is due to the use of new technologies and automated control systems, new high-strength steels, and new welding and construction procedures and practices among other things.

Accordingly, to facilitate better tracking of construction, we need to become aware of certain construction-related events in sufficient time to allow for the timely scheduling of pipeline construction reviews and inspections. PHMSA has observed that further clarification may help avoid any confusion as to when to make the required notifications and help ensure that operators' projects are not delayed as a result of notifications being submitted too late for PHMSA's scheduling purposes.

II. Advisory Bulletin (ADB-2014-03)

To: Owners and Operators of Gas and Hazardous Liquid Pipeline Systems.

Subject: Construction Notification.

Advisory: Sections 191.22(c)(1) and 195.64(c)(1) require a pipeline operator to notify PHMSA not later than 60 days before certain “construction” related events occur. PHMSA did not specifically define the term “construction” in the codes. This may be somewhat challenging for pipeline operators attempting to determine when 60 days before a construction related event occurs for reporting purposes.

PHMSA wants to ensure that operators understand how the earliest possible notification to PHMSA of construction related events is beneficial to both PHMSA and the operator. PHMSA also recognizes that the determination of whether a pipeline operator has complied with the reporting regulations in these codes must be determined on a case-by-case basis with regards to the specific facts of each project and with regards to the code language.

Accordingly, PHMSA strongly encourages operators to provide the required notification(s) not later than 60 days prior to whichever of the following construction-related activities occurs first: Material purchasing and manufacturing; right-of-way acquisition; construction equipment move-in activities; onsite or offsite fabrications; or right-of-way clearing, grading, and ditching. That is, pipeline operators should notify PHMSA 60 days prior to whichever of these activities would occur first on the operator's specific project. Additionally, PHMSA believes operators should provide the required notification(s) for the “construction of 10 or more miles of a new pipeline” for (1) a pipeline that did not previously exist and (2) for the replacement of 10 or more contiguous miles of line pipe in an existing pipeline. While the notification prior to the first occurring construction-related activity is strongly encouraged and will benefit both PHMSA and the operator, these activities may not necessarily represent the commencement of construction for purposes of triggering the minimum 60-day notice period in the regulations subject to enforcement by PHMSA.

Authority: 49 U.S.C. Chapter 601 and CFR 1.97.

Issued in Washington, DC, on September 9, 2014.
Alan K. Mayberry,
Deputy Associate Administrator for Policy and Programs.

[FR Doc. 2014-21782 Filed 9-11-14; 8:45 am]

BILLING CODE 4910-60-P